DEPARTMENT OF HOUSING AND URBAN DEVELOPMENT

[Docket No. FR-5603-N-18]

Notice of Submission of Proposed Information Collection to OMB Public/Private Partnerships for the Mixed-Finance Development of Public Housing Units

AGENCY: Office of the Chief Information Officer, HUD.

ACTION: Notice.

SUMMARY: The proposed information collection requirement described below has been submitted to the Office of Management and Budget (OMB) for review, as required by the Paperwork Reduction Act. The Department is soliciting public comments on the subject proposal.

The 1998 Public Housing Reform Act allowed the Mixed-Finance development of public housing units. This meant that Public Housing Authorities (PHAs) could create public housing projects using public housing grant or capital funds and non-HUD sources of funds, subject to HUD's approval. This Information Collection pertains to the information that HUD collects to perform due diligence in order to approve the mixed-finance development of public housing prior to a financial closing and the start of construction or rehabilitation activities. Applicants describe ownership, the type, size, and number of units, construction schedule, construction and permanent financing, property management, how public housing operating subsidy will be provided to the project and other operation plans. New developments may be made up of a variety of housing types: rental, homeownership, private, subsidized, and public housing. These new communities are built for residents with a wide range of incomes, and are designed to fit into the surrounding community.

DATES: Comments Due Date: April 18, 2012.

ADDRESSES: Interested persons are invited to submit comments regarding this proposal. Comments should refer to the proposal by name and/or OMB approval Number (2577-NEW) and should be sent to: HUD Desk Officer, Office of Management and Budget, New Executive Office Building, Washington, DC 20503; fax: 202-395-5806. Email: OIRA_Submission@omb.eop.gov, fax: 202-395-5806.

FOR FURTHER INFORMATION CONTACT: Colette Pollard., Reports Management Officer, QDAM, Department of Housing and Urban Development, 451 Seventh Street SW., Washington, DC 20410; email Colette Pollard at Colette. Pollard@hud.gov or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Public/Private Partnerships for the Mixed-Finance Development of Public Housing Units.

OMB Approval Number: 2577-NEW.

Form Numbers: HUD-50030, HUD-50029, HUD-50150, HUD-50151, HUD-50154, HUD-50155.

Description of the Need for the Information and its Proposed Use: The 1998 Public Housing Reform Act allowed the Mixed-Finance development of public housing units. This meant that Public Housing Authorities (PHAs) could create public housing projects using public housing grant or capital funds and non-HUD sources of funds, subject to HUD's approval. This Information Collection pertains to the information that HUD collects to perform due diligence in order to approve the mixed-finance development of public housing prior to a financial closing and the start of construction or rehabilitation activities. Applicants describe ownership, the type, size, and number of units, construction schedule, construction and permanent financing, property management, how public housing operating subsidy will be provided to the project and other operation plans. New developments may be made up of a variety of housing types: rental, homeownership, private, subsidized, and public housing. These new communities are built for residents with a wide range of incomes, and are designed to fit into the surrounding community.

Frequency of Submission: On occasion.

Estimation of the total number of hours needed to prepare the information collection including number of respondents, frequency of response, and hours of response: The estimated number of respondents is 130 annually, responding once with each housing development financial closing, with 920 annual responses. The total reporting burden is 16,995 hours.

Total Estimated Burden Hours: 16,995.

Status: Existing collection in use without an OMB control number.

Authority: Section 3507 of the Paperwork Reduction Act of 1995, 44 U.S.C. 35, as amended.

Dated: March 13, 2012.
Colette Pollard,
Departmental Reports Management Officer, Office of the Chief Information Officer.

[FR Doc. 2012-6592 Filed 3-16-12; 8:45 am]

BILLING CODE 4210-67-P